DEPARTMENT OF THE TREASURY

Office of Foreign Assets Control

Notice of OFAC Sanctions Actions; Sanctions Actions Pursuant to Executive Order 13662

AGENCY: Office of Foreign Assets Control, Treasury.

ACTION: Notice.

SUMMARY: The U.S. Department of the Treasury's Office of Foreign Assets Control (OFAC) is publishing the name of a person who is no longer subject to the prohibitions imposed pursuant to Executive Order 13662 of March 20, 2014, “Blocking Property of Additional Persons Contributing to the Situation in Ukraine.”

DATES: OFAC's actions described in this notice were effective on May 12, 2023.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List (SDN List) and additional information concerning OFAC sanctions programs are available from OFAC's website at http://www.treasury.gov/ofac.

Notice of OFAC Actions

On May 12, 2023, OFAC removed from the Sectoral Sanctions Identification List (SSI List) the person listed below, who was subject to prohibitions imposed pursuant to E.O. 13662.

Entity

1. SKODA JS A.S., Orlik 266, Plzen—mesto PSC 316 06, Plzen, Czech Republic; Executive Order 13662 Directive Determination—Subject to Directive 1; Secondary sanctions risk: Ukraine-/Russia-Related Sanctions Regulations, 31 CFR 589.201 and/or 589.209; For more information on directives, please visit the following link: https://www.treasury.gov/resource-center/sanctions/Programs/Pages/ukraine.aspx#directives [UKRAINE-EO13662] (Linked To: GAZPROMBANK JOINT STOCK COMPANY).

Dated: May 12, 2023.
Andrea M. Gacki,
Director, Office of Foreign Assets Control, U.S. Department of the Treasury.

[FR Doc. 2023-10699 Filed 5-18-23; 8:45 am]

BILLING CODE 4810-AL-P